ENVIRONMENTAL PROTECTION AGENCY

[ER-FRL-6692-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070261, ERP No. D-FHW-E40814-KY, I-65 to US 31 W Access Improvement Project, To Meet the Existing and Future Transportation Demand, in northeast Bowling Green, Warren County, KY.

Summary: EPA expressed environmental concerns about the impacts to groundwater and karst topography, as well as an unavoidable number of sinkholes that will be directly and indirectly impacted by the project. EPA is also concerned that the preferred alternative would also result in indirect adverse effects on two historic sites. Rating EC1.

EIS No. 20070322, ERP No. D-NPS-K61167-AZ, Saguaro National Park General Management Plan, Implementation, Rincon Mountain District and Tucson Mountain District, Pima County, AZ.

Summary: EPA has no objections to this project. Rating LO.

EIS No. 20070356, ERP No. D-FRC-J03019-CO, High Plains Expansion Project, (Docket No. CP07-207-000) Natural Gas Pipeline Facility, Construction and Operation, U.S. Army COE 404, Weld, Adams, and Morgan Counties, CO.

Summary: EPA expressed environmental concerns about impacts to water quality, wetlands, and wildlife from proposed pipeline water crossing construction. EPA requested additional analysis of construction methods and mitigation measures in Final EIS. Rating EC2.

EIS No. 20070363, ERP No. D-COE-K28022-CA, Carryover Storage and San Vicente Dam Raise Project, Providing Additional Storage Capacity for 100,000 area feet of Water by the Year 2011, Issuance of Permits, Section 10 and 404 Permits, San Diego County, CA.

Summary: EPA expressed environmental concerns about air, water and noise impacts, and requested additional information regarding the project's “Purpose and Need” statement, proposed compensatory mitigation sites for impacts to waters of the United States, efficient use of the emergency and new carryover storage, and mitigation measures for identified adverse air and noise impacts. Rating EC2.

EIS No. 20070311, ERP No. DS-COE-J28021-CO, Rueter-Hess Reservoir Expansion Project, Enlarges Reservoir to Provide Storage of Denver Basin Groundwater for Meeting Peak Municipal Water Supply, U.S. Army COE Section 404 Permit, Town of Parker, Douglas County, CO.

Summary: EPA expressed environmental concerns about the lack of information regarding future water supplies, and impacts to aquatic resources at Cherry Creek and Cherry Creek Reservoir. EPA also expressed concerns that the project's purpose and need statement was narrowly defined, thereby eliminating some potential project alternatives from consideration. Rating EC2.

Final EISs

EIS No. 20070374, ERP No. F-SFW-C64004-PR, Vieques National Wildlife Refuge Comprehensive Conservation Plan, Implementation, Vieques, PR.

Summary: No formal comment letter was sent to the preparing agency.

EIS No. 20070376, ERP No. F-FRC-L05237-00, Hells Canyon Hydroelectric Project, Application for Relicensing to Authorize the Continued Operation of Hydroelectric Project, Snake River, Washington and Adams Counties, ID and Wallowa and Baker Counties, OR.

Summary: EPA continues to have environmental objections due to potential violations of water quality standards and impacts to salmonids. EPA believes that additional information is needed regarding the feasibility of installing a temperature control structure, the details of the proposed Temperature Adaptive Management Plan, and information regarding the project's ability to meet all applicable water quality standards.

EIS No. 20070380, ERP No. F-AFS-K02012-NV, White Pine & Grant-Quinn Oil and Gas Leasing Project, Exploration and Development, Humboldt-Toiyabe National Forest, Ely Ranger District, White Pine, Nye and Lincoln Counties, NV.

Summary: EPA continues to have environmental concerns about impacts to water quality and habitat. EPA recommended the Record of Decision commit to appropriate mitigation measures as lease stipulations.

Dated: October 16, 2007.
Ken Mittelholtz,
Environmental Protection Specialist, Office of Federal Activities.

[FR Doc. E7-20657 Filed 10-18-07; 8:45 am]

BILLING CODE 6560-50-P